DEPARTMENT OF TRANSPORTATION

Federal Aviation Administration

14 CFR Part 39

[Docket No. FAA-2021-0213; Project Identifier 2018-CE-036-AD; Amendment 39-21818; AD 2021-23-19]

RIN 2120-AA64

Airworthiness Directives; Pacific Aerospace Limited Airplanes

AGENCY: Federal Aviation Administration (FAA), DOT.

ACTION: Final rule.

SUMMARY: The FAA is adopting a new airworthiness directive (AD) for certain Pacific Aerospace Limited Model 750XL airplanes. This AD results from mandatory continuing airworthiness information (MCAI) originated by an aviation authority of another country to identify and correct an unsafe condition on an aviation product. The MCAI identifies the unsafe condition as insufficient separation of ground terminations for individual power sources and static grounds. This AD requires inspecting and separating, if applicable, the battery and generator common ground connections on the airframe. The FAA is issuing this AD to address the unsafe condition on these products.

DATES: This AD is effective January 11, 2022.

The Director of the Federal Register approved the incorporation by reference of a certain publication listed in this AD as of January 11, 2022.

ADDRESSES: For service information identified in this final rule, contact the Civil Aviation Authority of New Zealand, Level 15, Asteron Centre, 55 Featherston Street, Wellington 6011; phone: +64 4 560 9400; fax: +64 4 569 2024; email: info@caa.govt.nz. You may review this referenced service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0213; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Mike Kiesov, Aviation Safety Engineer, FAA, General Aviation & Rotorcraft Section, International Validation Branch, 901 Locust, Room 301, Kansas City, MO 64106; phone: (816) 329-4144; fax: (816) 329-4090; email: mike.kiesov@faa.gov.

SUPPLEMENTARY INFORMATION:

Background

The FAA issued a notice of proposed rulemaking (NPRM) to amend 14 CFR part 39 by adding an AD that would apply to certain serial-numbered Pacific Aerospace Limited Model 750XL airplanes with the battery installed within the engine bay at the firewall. The NPRM published in the Federal Register on August 9, 2021 (86 FR 43446). The NPRM was based on MCAI from the Civil Aviation Authority (CAA), which is the aviation authority for New Zealand. The CAA issued DCA/750XL/30, dated July 5, 2018 (referred to after this as “the MCAI”), to correct an unsafe condition for Pacific Aerospace Limited Model 750XL airplanes. The MCAI states:

The ground connections for the individual power sources (BATT & GEN [battery and generator]) have been connected at a common ground point on the aircraft. DCA/750XL/30 is issued to mandate the instructions in Pacific Aerospace Mandatory Service Bulletin (MSB) PACSB/XL/104 issue 1, dated 2 May 2018, or later approved revision to separate the common ground connection on the airframe for the individual power sources (BATT & GEN).

The CAA advises the root cause is a deviation from the approved engineering data. This condition, if not corrected, could lead to the loss of primary and secondary power sources from corrosion of the ground connection or failure of the fastening hardware, which could result in the simultaneous loss of multiple systems. According to the CAA, this condition was observed on the production line and has been corrected for new airplanes in production. The MCAI requires inspecting the battery ground connections and separating the ground connections as necessary. You may examine the MCAI in the AD docket at https://www.regulations.gov by searching for and locating Docket No. FAA-2021-0213.

In the NPRM, the FAA proposed to require detecting and correcting ground terminations with insufficient separation on individual power sources and static grounds for continued airworthiness. The FAA is issuing this AD to address the unsafe condition on these products.

Discussion of Final Airworthiness Directive

Comments

The FAA gave the public the opportunity to participate in developing this final rule. The FAA received no comments on the NPRM or on the determination of the cost to the public.

Conclusion

This product has been approved by the aviation authority of another country and is approved for operation in the United States. Pursuant to the FAA's bilateral agreement with this State of Design Authority, it has notified the FAA of the unsafe condition described in the MCAI. The FAA reviewed the relevant data and determined that air safety requires adopting this AD as proposed. Accordingly, the FAA is issuing this AD to address the unsafe condition on these products. This AD is adopted as proposed in the NPRM.

Related Service Information Under 1 CFR Part 51

The FAA reviewed Pacific Aerospace Mandatory Service Bulletin PACSB/XL/104, Issue 1, dated May 2, 2018. The service information specifies procedures for inspecting the battery ground connections and separating the ground connections as necessary. This service information is reasonably available because the interested parties have access to it through their normal course of business or by the means identified in the ADDRESSES section.

Costs of Compliance

The FAA estimates that this AD affects 23 airplanes of U.S. registry.

The FAA also estimates that it would take about 1 work-hour per airplane to comply with the grounding connection inspection of this AD. The average labor rate is $85 per work-hour.

Based on these figures, the FAA estimates the cost of the inspection on U.S. operators to be $1,955, or $85 per airplane.

In addition, the FAA estimates that any necessary action to separate the connections would take about 3 work-hours and require parts costing $25, for a cost of $280 per airplane. The FAA has no way of determining the number of airplanes that may need these actions.

The FAA has included all costs in this cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-23-19 Pacific Aerospace Limited: Amendment 39-21818; Docket No. FAA-2021-0213; Project Identifier 2018-CE-036-AD.

(a) Effective Date

This airworthiness directive (AD) is effective January 11, 2022.

(b) Affected ADs

None.

(c) Applicability

This AD applies to Pacific Aerospace Limited Model 750XL airplanes, serial numbers up to and including 222, certificated in any category, with the battery installed within the engine bay at the firewall.

(d) Subject

Joint Aircraft System Component (JASC) Code 2400, Electrical Power System.

(e) Reason

This AD was prompted by mandatory continuing airworthiness information (MCAI) originated by an aviation authority of another country to identify and correct an unsafe condition on an aviation product. The MCAI identifies the unsafe condition as insufficient separation of ground terminations for individual power sources and static grounds. The FAA is issuing this AD to detect and correct ground terminations with insufficient separation, which could lead to loss of primary and secondary power sources if the ground connection fails and consequent simultaneous loss of multiple airplane systems.

(f) Compliance

Comply with this AD within the compliance times specified, unless already done.

(g) Inspection and Corrective Action

(1) Within 12 months after the effective date of this AD, inspect the battery installation in the engine bay to determine if the ground leads connect to a single ground stud as shown in the Accomplishment Instructions, figure 2, of Pacific Aerospace Mandatory Service Bulletin PACSB/XL/104, Issue 1, dated May 2, 2018 (PACSB/XL/104I1).

(2) If the ground leads connect to a single ground stud, before further flight, separate the battery ground lead connections by following the Accomplishment Instructions, steps 4 through 36, of PACSB/XL/104I1.

(h) Alternative Methods of Compliance (AMOCs)

(1) The Manager, International Validation Branch, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD or email: 9-AVS-AIR-730-AMOC@faa.gov.

(2) Before using any approved AMOC, notify your appropriate principal inspector, or lacking a principal inspector, the manager of the local flight standards district office/certificate holding district office.

(i) Related Information

(1) For more information about this AD contact Mike Kiesov, Aviation Safety Engineer, FAA, General Aviation & Rotorcraft Section, International Validation Branch, 901 Locust, Room 301, Kansas City, MO 64106; (816) 329-4144; fax: (816) 329-4090; email: mike.kiesov@faa.gov.

(2) Refer to Civil Aviation Authority (CAA) of New Zealand AD DCA/750XL/30, dated July 5, 2018, for related information. You may examine the CAA AD at https://www.regulations.gov by searching for and locating Docket No. FAA-2021-0213.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Pacific Aerospace Mandatory Service Bulletin PACSB/XL/104, Issue 1, dated May 2, 2018.

(ii) [Reserved]

(3) For Pacific Aerospace Limited service information identified in this AD, contact the Civil Aviation Authority of New Zealand, Level 15, Asteron Centre, 55 Featherston Street, Wellington 6011; phone: +64 4 560 9400; fax: +64 4 569 2024; email: info@caa.govt.nz.

(4) You may view this service information at FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fr.inspection@nara.gov, or go to: https://www.archives.gov/federal-register/cfr/ibr-locations.html.

Issued on November 4, 2021.
Lance T. Gant,
Director, Compliance & Airworthiness Division, Aircraft Certification Service.

[FR Doc. 2021-26495 Filed 12-6-21; 8:45 am]

BILLING CODE 4910-13-P